DEPARTMENT OF JUSTICE

Notice of Lodging of Consent Decree Under the Comprehensive Environmental Response, Compensation and Liability Act

Notice is hereby given that on March 24, 2006, a proposed Consent Decree (“CD”) in United States v. Sahli Enterprises, Inc. and Michael Sahli, Civil Action No. 06-C-1627 was lodged with the United States District Court for the Northern District of Illinois, Eastern Division.

In this action, the United States sought on behalf of the United States Environmental Protection Agency recovery of response costs incurred at the Crescent Plating Superfund Site (the “Site”) in Chicago, Illinois, pursuant to Section 107 of the Comprehensive Environmental Response, Compensation and Liability Act (“CERCLA”), 42 U.S.C. 9607. The CD resolves a claim that Sahli Enterprises, Inc., as current owner of the Site, is liable to the United States for reimbursement of costs incurred as a result of responding to a release or threat of release of hazardous substances from the Site. The settlement also resolves a claim against Michael Sahli, who is also alleged to be liable as the current owner of the Site, because he is the alter-ego of Sahli Enterprises, Inc. This settlement, requiring a one-time payment of $222,500, is based upon the settling defendants' ability to pay and unique equitable considerations. Additionally, although the United States does not at this time anticipate any further response activities at the Site, Sahli Enterprises agrees to continue to provide EPA with access to the Site. Within five days after the settling defendants make payment, the United States will file a Release of Notice of Federal Lien in the Cook County, Illinois Recorder's Office. Further, contingent on the veracity of the settling defendants' certifications made in the Consent Decree, the United States covenants not to sue the settling defendants pursuant to CERCLA Sections 106 and 107, 42 U.S.C. 9606 and 9607.

The Department of Justice will receive comments relating to this CD for a period of thirty (30) days from the date of this publication. Comments should be addressed to the Assistant Attorney General, Environment and Natural Resources Division, P.O. Box 7611, U.S. Department of Justice, Washington, DC 20044-7611, and should refer to United States v. Sahli Enterprises, Inc. and Michael Sahli, D.J. Ref. 90-11-3-08304.

The CD may be examined at the Office of the United States Attorney, Northern District of Illinois, Eastern Division, 219 S. Dearborn St., 5th Floor, Chicago, Illinois 60604 and at U.S. EPA Region 5, 77 W. Jackson Blvd., Chicago, Illinois 60604. During the public comment period, the CD may also be examined on the following Department of Justice website, http://www.usdoj.gov/enrd/open.html. A copy of the CD may also be obtained by mail from the Consent Decree Library, U.S. Department of Justice, P.O. Box 7611, Washington, DC 20044-7611 or by faxing or emailing a request to Tonia Fleetwood (tonia.fleetwood@usdoj.gov), fax number (202) 514-0097, phone confirmation number (202) 514-1547. In requesting a copy from the Consent Decree Library, please enclose a check in the amount of $7.50 (25 cents per page reproduction cost) payable to the U.S. Treasury or, if by email or fax, forward a check in that amount to the Consent Decree Library at the state address.

William Brighton,
Assistant Chief, Environmental Enforcement Section, Environment and Natural Resources Division, United States Department of Justice.

[FR Doc. 06-3268 Filed 4-4-06; 8:45 am]

BILLING CODE 4410-15-M